DEPARTMENT OF TRANSPORTATION

Office of the Secretary

Aviation Proceedings, Agreements Filed the Week Ending July 7, 2006

The following Agreements were filed with the Department of Transportation under the sections 412 and 414 of the Federal Aviation Act, as amended (49 U.S.C. 1382 and 1384) and procedures governing proceedings to enforce these provisions. Answers may be filed within 21 days after the filing of the application.

Docket Number: OST-2006-25313.

Date Filed: July 3, 2006.

Parties: Members of the International Air Transport Association.

Subject: Mail Vote 496—Resolution 010u, Special Passenger Amending from Thailand to Africa, Middle East (Memo 0304) and (Memo 0294). Intended effective date: July 13, 2006.

Docket Number: OST-2006-25316.

Date Filed: July 5, 2006.

Parties: Members of the International Air Transport Association.

Subject: TC12 North Atlantic Canada-Europe, Expedited Resolution 002cj (Memo 0121). Intended effective Date: September 1, 2006.

Docket Number: OST-2006-25319.

Date Filed: July 5, 2006.

Parties: Members of the International Air Transport Association.

Subject: TC12 North Atlantic USA-Europe and Mail Vote 492 (except Austria, Belgium, Czech Republic, Finland, France, Germany, Iceland, Italy, Netherlands, Scandinavia, Switzerland) (Memo 0194). Intended effective date: September 1, 2006.

Renee V. Wright,
Program Manager, Docket Operations, Federal Register Liaison.

[FR Doc. E6-11696 Filed 7-21-06; 8:45 am]

BILLING CODE 4910-9X-P